DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection for Field Crops Production. Revision to burden hours will be needed due to changes in the size of the target population, sampling design, the combining of several smaller surveys, and/or changes in questionnaire length.

DATES: Comments on this notice must be received by June 15, 2015 to be assured of consideration.

ADDRESSES: You may submit comments, identified by docket number 0535-0002, by any of the following methods:

• Email: ombofficer@nass.usda.gov. Include docket number above in the subject line of the message.

• Efax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-4333. Copies of this information collection and related instructions can be obtained without charge from David Hancock, NASS Clearance Officer, at (202) 690-2388 or at ombofficer@nass.usda.gov.

SUPPLEMENTARY INFORMATION:

Title: Field Crops Production.

OMB Control Number: 0535-0002.

Expiration Date of Approval: August 31, 2015.

Type of Request: Intent to Seek Approval to Revise and Extend an Information Collection for 3 years.

Abstract: The primary objective of the National Agricultural Statistics Service is to prepare and issue State and national estimates of crop and livestock production, prices, and disposition. The Field Crops Production Program consists of probability field crops surveys and supplemental panel surveys. The panel surveys capture unique crop characteristics such as the concentration of crops in localized geographical areas. These surveys are extremely valuable for commodities where acreage and yield are published at the county level.

Several of the smaller surveys will be discontinued with this approval. The Alaska Acreage and Production Survey and the Alaska Spring Acreage Survey have been incorporated into the County Estimates Survey and the Quarterly Crops/Stocks surveys. The Sweet Potato Buyers Survey, the Tobacco Forecast Survey, and the Tobacco Buyer Survey have been discontinued, and the data will be collected through the Sweet Potato Price Survey, the Quarterly Crops/Stocks surveys, and the Tobacco Price Inquiry respectively. The total burden has been increased to account for the cover letter and the internet access instruction sheet that will be mailed out to the target samples.

Authority: These data will be collected under the authority of 7 U.S.C. 2204(a). Individually identifiable data collected under this authority are governed by section 1770 of the Food Security Act of 1985 as amended, 7 U.S.C. 2276, which requires USDA to afford strict confidentiality to non-aggregated data provided by respondents. This Notice is submitted in accordance with the Paperwork Reduction Act of 1995, Pub. L. 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this information collection is based on a group of similar surveys with expected response times of 5-20 minutes and a frequency of 1-40 times per year. Estimated number of responses per respondent is 1.27.

Respondents: Farmers and Ranchers.

Estimated Total Number of Respondents: 626,000.

Estimated Total Annual Burden on Respondents: 194,000 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, April 1, 2015.
Joseph T. Reilly,
Administrator.

[FR Doc. 2015-08788 Filed 4-15-15; 8:45 am]

BILLING CODE 3410-20-P